DEPARTMENT OF TRANSPORTATION

Federal Aviation Administration

14 CFR Part 71

[Docket No. FAA-2004-19579; Airspace Docket No. 04-ACE-69]

Proposed Establishment of Class E2 Airspace; and Modification of Class E5 Airspace; Newton, KS

AGENCY: Federal Aviation Administration (FAA), DOT.

ACTION: Notice of proposed rulemaking; correction.

SUMMARY: This action corrects a notice of proposed rulemaking that was published in the Federal Register on Friday, January 7, 2005, (70 FR 1399) [FR Doc. 05-374]. It corrects errors in the legal descriptions of the proposed Class E airspace area designated as a surface area and the Class E airspace area extending upward from 700 feet above the surface at Newton, KS.

DATES: Comments for inclusion in the Rules Docket must be received on or before March 1, 2005.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register Document 05-374, published on Friday, January 7, 2005, (70 FR 1399) proposed to establish a Class E airspace area designated as a surface area and to modify the existing Class E airspace area extending upward from 700 feet above the surface at Newton, KS. The proposed airspace and changes were to protect aircraft departing from and executing instrument approach procedures to Newton-City-County Airport. However, the Newton-City-County airport reference point used in both proposed airspace areas was incorrect.

Accordingly, pursuant to the authority delegated to me, the legal description of the Class E airspace area designated as a surface area and the Class E airspace area extending upward from 700 feet above the surface at Newton, KS, as published in the Federal Register on Friday, January 7, 2005 (70 FR 1399) [FR Doc. 05-374] are corrected as follows:

§ 71.1 [Corrected]

On page 1400, Column 1, second and fourth paragraphs from the bottom, third line, change “(lat. 38°05′26″ N., long. 97°16′31″ W.)” to read “(lat. 38°03′26″ N., long. 97°16′31″ W.)”

Issued in Kansas City, MO, on January 11, 2005.
Donna R. McCord,
Acting Area Director, Western Flight Services Operations.

[FR Doc. 05-1416 Filed 1-25-05; 8:45 am]

BILLING CODE 4910-13-M